DEPARTMENT OF HEALTH AND HUMAN SERVICES

Indian Health Service

Organization, Function, and Delegations of Authority; Part G; Proposed Functional Statement: Correction

AGENCY: HHS, Indian Health Service, HHS.

ACTION: Notice; correction.

SUMMARY: The Indian Health Service published a document in the Federal Register on January 10, 2014 listing the Oklahoma City Area Office as the Oklahoma Area Office.

FOR FURTHER INFORMATION CONTACT: Ms. Mona Galpin, 301-443-2650.

Correction

In the Federal Register of January 10, 2014, in FR Doc. 2014-00264, on page 1182, in the third column, under “Indian Health Service Area Offices of the Indian Health Service in alphabetical order” correct “Oklahoma Area Office (GFK) to read: “Oklahoma City Area Office (GFK).”

Dated: February 14, 2014.
Yvette Roubideaux,
Acting Director, Indian Health Service.

[FR Doc. 2014-04266 Filed 2-28-14; 8:45 am]

BILLING CODE 4160-16-M